DEPARTMENT OF LABOR

Employment and Training Administration

[TA-W-59,024]

Agilent Technologies, Inc., Global Infrastructure Organization, Palo Alto, CA; Notice of Termination of Investigation

Pursuant to Section 221 of the Trade Act of 1974, as amended, an investigation was initiated on March 14, 2006 in response to a worker petition filed on behalf of workers at Agilent Technologies, Inc., Global Infrastructure Organization, headquartered in Palo Alto, California. The workers were employed as information technology specialists, telecommuting from their homes, but reporting to different facilities.

The petition regarding the investigation has been deemed invalid. Petitioners do not constitute a valid worker group of three or more associated workers working at the same facility. Consequently, the investigation has been terminated.

Signed at Washington, DC, this 6th day of April 2006.
Richard Church,
Certifying Officer, Division of Trade Adjustment Assistance.

[FR Doc. E6-5769 Filed 4-17-06; 8:45 am]

BILLING CODE 4510-30-P